FEDERAL EMERGENCY MANAGEMENT AGENCY

State Funds for FY2002 Pre-Disaster Mitigation Program

AGENCY: Federal Insurance and Mitigation Administration, Federal Emergency Management Agency (FEMA).

ACTION: Notice of availability of one-time grants for states.

SUMMARY: FEMA gives notice of the availability of a one-time $50,000 grant for each of the fifty States, as well as the District of Columbia, the U.S. Virgin Islands, and the Commonwealth of Puerto Rico to prepare for and develop processes and procedures to implement the Pre-Disaster Mitigation (PDM) program, as authorized by § 102 of the Disaster Mitigation Act of 2000. No match is required for these one-time grants. The ultimate goal of this grant is to ensure that States have a process in place to implement the new PDM program when funds become available, and to ensure that implementation is coordinated with other mitigation programs and activities at the State level.

DATES: Grant applications should be submitted to the appropriate FEMA Regional Office by January 11, 2002.

ADDRESSES: FEMA Regional Offices: Serving the State of Maine, State of New Hampshire, State of Vermont, State of Rhode Island, State of Connecticut, and the Commonwealth of Massachusetts:

FEMA Region I

442 J.W. McCormack POCH, Boston, MA 02109-4595.

Serving the State of New York, State of New Jersey, the Commonwealth of Puerto Rico and the Territory of the U.S. Virgin Islands:

FEMA Region II

26 Federal Plaza, Rm. 1337, New York, NY 10278-0002.

Serving the District of Columbia, Delaware, Maryland, Pennsylvania, Commonwealth of Virginia, and West Virginia:

FEMA Region III

1 Independence Mall, 6th Floor, 615 Chestnut Street, Philadelphia, PA 19106-4404.

Serving the States of Alabama, Florida, Georgia, Kentucky, Mississippi, North Carolina, South Carolina and Tennessee:

FEMA Region IV

3003 Chamblee Tucker Road, Atlanta, GA 30341.

Serving the States of Illinois, Indiana, Michigan, Minnesota, Ohio and Wisconsin:

FEMA Region V

536 S. Clark Street, 6th Floor, Chicago, IL 60605.

Serving the States of Arkansas, Louisiana, New Mexico, Oklahoma and Texas:

FEMA Region VI

FRC 800 North Loop 288, Denton, TX 76201-3698.

Serving Iowa, Kansas, Missouri, and Nebraska:

FEMA Region VII

2323 Grand Avenue, Suite 900, Kansas City, MO 64108.

Serving Colorado, Montana, North Dakota, South Dakota, Utah, and Wyoming:

FEMA Region VIII

Denver Federal Center, Building 710, Box 25267, Denver, CO 80225-0267.

Serving the States of Arizona, California, Hawaii and Nevada; and the Territory of American Samoa, the Territory of Guam, the Commonwealth of the Northern Mariana Islands, the Republic of the Marshall Islands, the Federated States of Micronesia, and the Republic of Palau:

FEMA Region IX

Building 105, Presidio of San Francisco, San Francisco, CA 94129-1250.

Serving the States of Alaska, Idaho, Oregon and Washington:

FEMA Region X

Federal Regional Center, 130 228th Street, SW, Bothell, WA 98021-9796.

FOR FURTHER INFORMATION CONTACT: Margaret Lawless, Program Planning and Delivery Division, Federal Insurance and Mitigation Administration, FEMA, 500 C Street, SW., Room 401, Washington, DC 20472, (202) 646-3027 or E-mail: Margaret.Lawless@fema.gov.

SUPPLEMENTARY INFORMATION:

Appropriations

Under Public Law 106-377, 114 Stat. 1441, Department of Veterans Affairs and Housing and Urban Development and Independent Agencies Appropriation Act, 2001, we are issuing a Request for Application (RFA) to implement the PDM Program.

Applicant Eligibility

Each of the fifty States is eligible, including the Virgin Islands, the Commonwealth of Puerto Rico, and Washington, DC.

Grant Application Process

To apply for this grant, States must complete and submit to the appropriate FEMA Regional Office the standard grant application forms in accordance with 44 Code of Federal Regulations Part 13.10, which can be obtained from the Regional Office. The grant application should include:

• Application for Federal Assistance, Standard Form 424;

• Budget Information “ Non-Construction Program, FEMA Form 20-20;

• Summary Sheet for Assurances and Certification, FEMA Form 20-16;

• Assurances “ Non-Construction Program, FEMA Form 20-16A;

• Certification Regarding Lobbying; Debarment, Suspension and Other Responsible Matters; and Drug-Free Workplace Requirements, FEMA Form 20-16C;

• Disclosure of Lobbying Activities, Standard Form LLL; and,

• Program Narrative describing staffing, activities, and timeframes to complete the activities.

Eligible Activities

• Developing a State-wide strategy for PDM program implementation, including a process for soliciting community applications, and criteria prioritizing applications that is consistent with the State mitigation plan;

• Providing technical assistance to sub-grantees in completing the application process;

• Conducting workshops for local officials on the development of local mitigation plans;

• Developing an Enhanced State Mitigation Plan based on the new DMA 2000 planning criteria; and,

• Obtaining contractor support to assist the States in the accomplishment of any of these eligible items.

Reporting Requirements

The States shall submit a final financial report and a final performance report to the appropriate FEMA Regional Office 90 days after the close of the grant.

Robert F. Shea,
Acting Administrator, Federal Insurance and Mitigation Administration.

[FR Doc. 01-31635 Filed 12-21-01; 8:45 am]

BILLING CODE 6718-04-P